DEPARTMENT OF TRANSPORTATION

Federal Aviation Administration

14 CFR Part 39

[Docket No. FAA-2004-19023; Directorate Identifier 2004-NM-123-AD; Amendment 39-13899; AD 2004-25-11]

RIN 2120-AA64

Airworthiness Directives; Airbus Model A318, A319, A320, and A321 Series Airplanes

AGENCY: Federal Aviation Administration (FAA), DOT.

ACTION: Final rule.

SUMMARY: The FAA is adopting a new airworthiness directive (AD) for certain Airbus Model A318, A319, A320, and A321 series airplanes. This AD requires removing two maintenance lights in the hydraulics bay, disconnecting the wiring for the lights, and modifying the switches. This AD is prompted by underlying safety issues involved in fuel tank explosions on several large transport airplanes. We are issuing this AD to prevent an ignition source for fuel vapor in the hydraulics bay, which could result in fire or explosion in the adjacent center wing fuel tank.

DATES: This AD becomes effective January 13, 2005.

The incorporation by reference of certain publications listed in the AD is approved by the Director of the Federal Register as of January 13, 2005.

ADDRESSES: For service information identified in this AD, contact Airbus, 1 Rond Point Maurice Bellonte, 31707 Blagnac Cedex, France. You can examine this information at the National Archives and Records Administration (NARA). For information on the availability of this material at NARA, call (202) 741-6030, or go to: http://www.archives.gov/federal_register/code_of_federal_regulations/ibr_locations.html.

You can examine the contents of this AD docket on the Internet at http://dms.dot.gov, or at the Docket Management Facility, U.S. Department of Transportation, 400 Seventh Street SW., room PL-401, on the plaza level of the Nassif Building, Washington, DC.

FOR FURTHER INFORMATION CONTACT:

Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

Examining the Docket

The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

SUPPLEMENTARY INFORMATION: The FAA proposed to amend 14 CFR Part 39 with an AD for certain Airbus Model A318, A319, A320, and A321 series airplanes. The proposed AD was published in the Federal Register on September 7, 2004 (69 FR 54055), to require removing two maintenance lights in the hydraulics bay, disconnecting the wiring for the lights, and modifying the switches.

Comments

We provided the public the opportunity to participate in the development of this AD. We have considered the comments that have been submitted on the proposed AD.

Request To Include a Terminating Action

One commenter states that it has no objection to the proposed AD but requests that we revise the proposed AD to include a terminating action that includes installation of an explosion-proof lighting system.

We acknowledge the commenter's request but do not concur. The commenter's request did not include any technical information about an explosion-proof lighting system, nor did it describe the procedures associated with installing such a system. Further, we do not know of any service information at this time that provides procedures for installing this type of system. Once such service information is available and approved, we may consider approving a request for an alternative method of compliance (AMOC) for the requirements of this AD. No change has been made to the final rule.

Request To Provide Option of Deactivating Power

One commenter requests that we revise the proposed AD to include an option that would allow an operator to deactivate the power to the subject maintenance lights by modifying certain switch wiring. The commenter notes that this modification would reduce the cost of deactivating the existing lights and allow easier installation when replacement lights are available. The commenter states that this modification “would equally address the unsafe condition.”

We do not concur with the commenter's request. The commenter did not provide any information on how it plans to modify the wiring to deactivate power to the subject maintenance lights. We may approve a request for an AMOC for the requirements of this AD if the commenter submits this request with technical data supporting its request. No change has been made to the final rule.

Conclusion

We have carefully reviewed the available data, including the comments that have been submitted, and determined that air safety and the public interest require adopting the AD as proposed.

Costs of Compliance

The following table provides the estimated costs for U.S. operators to comply with this AD.

Estimated Costs
Action | Work hours | Average labor rate per hour | Parts | Cost per airplane | Number of U.S.-registered airplanes | Fleet cost
Remove lights, disconnect wires, and modify switches | 3 | $65 | $70 | $265 | 648 | $171,720

Authority for This Rulemaking

The FAA's authority to issue rules regarding aviation safety is found in Title 49 of the United States Code. Subtitle I, Section 106, describes the authority of the FAA Administrator. Subtitle VII, Aviation Programs describes in more detail the scope of the agency's authority.

This rulemaking is promulgated under the authority described in Subtitle VII, Part A, Subpart III, Section 44701, “General requirements.” Under that section, the FAA is charged with promoting safety flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2004-25-11 Airbus: Amendment 39-13899. Docket No. FAA-2004-19023; Directorate Identifier 2004-NM-123-AD.

Effective Date

(a) This airworthiness directive (AD) becomes effective January 13, 2005.

Affected ADs

(b) None.

Applicability

(c) This AD applies to Airbus Model A318, A319, A320, and A321 series airplanes; certificated in any category; except those airplanes on which Airbus Modification 33518 has been accomplished in production.

Unsafe Condition

(d) This AD was prompted by underlying safety issues involved in fuel tank explosions on several large transport airplanes. We are issuing this AD to prevent an ignition source for fuel vapor in the hydraulics bay, which could result in fire or explosion in the center wing fuel tank.

Compliance

(e) You are responsible for having the actions required by this AD performed within the compliance times specified, unless the actions have already been done.

Modification

(f) Within 19 months after the effective date of this AD, remove maintenance lights 9LL and 10LL from the hydraulics bay, disconnect the wiring for the lights, and modify the 12LL switches. Do the actions in accordance with Airbus Service Bulletin A320-92-1032, dated March 8, 2004.

Alternative Methods of Compliance (AMOCs)

(g) The Manager, International Branch, ANM-116, Transport Airplane Directorate, FAA, has the authority to approve AMOCs for this AD, if requested in accordance with the procedures found in 14 CFR 39.19.

Related Information

(h) French airworthiness directive F-2004-073, dated May 26, 2004, also addresses the subject of this AD.

Material Incorporated by Reference

(i) You must use Airbus Service Bulletin A320-92-1032, dated March 8, 2004, to perform the actions that are required by this AD, unless the AD specifies otherwise. The Director of the Federal Register approves the incorporation by reference of this document in accordance with 5 U.S.C. 552(a) and 1 CFR part 51. For copies of the service information, contact Airbus, 1 Rond Point Maurice Bellonte, 31707 Blagnac Cedex, France. For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Issued in Renton, Washington, on November 30, 2004.
Ali Bahrami,
Manager, Transport Airplane Directorate, Aircraft Certification Service.

[FR Doc. 04-26916 Filed 12-8-04; 8:45 am]

BILLING CODE 4910-13-P